DEPARTMENT OF ENERGY

Federal Energy Regulatory Commission

Combined Notice of Filings #1

Take notice that the Commission received the following electric corporate filings:

Docket Numbers: EC12-146-000.

Applicants: WPS Westwood Generation, LLC, Sunbury Holdings, LLC.

Description: Application of WPS Westwood Generation, LLC and Sunbury Holdings, LLC for Authorization for Disposition of Jurisdictional Facilities and Request for Expedited Consideration.

Filed Date: 9/26/12.

Accession Number: 20120926-5130.

Comments Due: 5 p.m. ET 10/17/12.

Docket Numbers: EC12-147-000.

Applicants: Post Rock Wind Power Project, LLC.

Description: Section 203 Application of Post Rock Wind Power Project, LLC.

Filed Date: 9/26/12.

Accession Number: 20120926-5169.

Comments Due: 5 p.m. ET 10/17/12.

Take notice that the Commission received the following electric rate filings:

Docket Numbers: ER10-1544-006; ER10-1546-008; ER10-1547-006; ER10-1549-006; ER10-1550-007; ER10-1551-006; ER10-1974-008; ER10-1975-008; ER10-2253-007; ER10-2627-007; ER10-2629-008; ER10-2636-007; ER10-2638-006; ER10-2669-006; ER10-2670-006; ER10-2671-007; ER10-2673-006; ER10-2674-006; ER10-2675-007; ER10-2676-006; ER10-2677-006; ER10-2678-005; ER10-3319-008; ER11-2424-009;

Applicants: Choctaw Generation Limited Partnership, IPR-GDF SUEZ Energy Marketing North America, Inc., Hopewell Cogeneration Ltd Partnership, Hot Spring Power Company, LLC, Northeastern Power Company, Syracuse Energy Corporation, Northeast Energy Associates, A Limited Partnership, North Jersey Energy Associates, A Limited Partnership, Astoria Energy LLC, FirstLight Hydro Generating Company, FirstLight Power Resources Management, LLC, Mt. Tom Generating Company, LLC, Waterbury Generation, LLC, ANP Bellingham Energy Company, LLC, ANP Blackstone Energy Company, LLC, ANP Funding I, LLC, Armstrong Energy Limited Partnership, L.L.L.P., Calumet Energy Team, LLC, IPA Trading, LLC, Milford Power Limited Partnership, Pleasants Energy, LLC, Troy Energy, LLC, Astoria Energy II LLC, Pinetree Power-Tamworth, Inc.

Description: Notice of Non-Material Change in Status of GDF SUEZ MBR Sellers.

Filed Date: 9/26/12.

Accession Number: 20120926-5133.

Comments Due: 5 p.m. ET 10/17/12.

Docket Numbers: ER11-3616-004.

Applicants: California Independent System Operator Corporation.

Description: California Independent System Operator Corporation submits response to deficiency letter requesting additional information.

Filed Date: 9/26/12.

Accession Number: 20120926-5187.

Comments Due: 5 p.m. ET 10/17/12.

Docket Numbers: ER11-3616-005.

Applicants: California Independent System Operator Corporation.

Description: California Independent System Operator Corporation submits response to deficiency letter requesting additional information.

Filed Date: 9/26/12

Accession Number: 20120926-5187.

Comments Due: 5 p.m. ET 10/17/12.

Docket Numbers: ER11-4100-002.

Applicants: California Independent System Operator Corporation.

Description: California Independent System Operator Corporation submits response to deficiency letter requesting additional information.

Filed Date: 9/26/12.

Accession Number: 20120926-5187.

Comments Due: 5 p.m. ET 10/17/12.

Docket Numbers: ER11-4100-003.

Applicants: California Independent System Operator Corporation.

Description: California Independent System Operator Corporation submits response to deficiency letter requesting additional information.

Filed Date: 9/26/12.

Accession Number: 20120926-5187.

Comments Due: 5 p.m. ET 10/17/12.

Docket Numbers: ER12-2170-000.

Applicants: International Transmission Company.

Description: Comlpliance Filing of International Transmission Company dba ITCTransmission to be effective N/A.

Filed Date: 9/27/12.

Accession Number: 20120927-5151.

Comments Due: 5 p.m. ET 10/18/12.

Docket Numbers: ER12-2312-002.

Applicants: Perigee Energy, LLC.

Description: Perigee Energy, LLC Rate Schedule FERC No. 1 Revision 2 to be effective 9/26/2012.

Filed Date: 9/26/12.

Accession Number: 20120926-5172.

Comments Due: 5 p.m. ET 10/10/12.

Docket Numbers: ER12-2387-002.

Applicants: Southwest Power Pool, Inc.

Description: Amendment to Reallocation of Revenue Filing to be effective 10/1/2012.

Filed Date: 9/26/12.

Accession Number: 20120926-5146.

Comments Due: 5 p.m. ET 10/17/12.

Docket Numbers: ER12-2465-001.

Applicants: Ingenco Wholesale Power, L.L.C.

Description: Notice of Change in Status to be effective 9/17/2012.

Filed Date: 9/27/12.

Accession Number: 20120927-5112.

Comments Due: 5 p.m. ET 10/18/12.

Docket Numbers: ER12-2522-001.

Applicants: D & L Harris and Associates.

Description: Initial to be effective 8/28/2012.

Filed Date: 9/27/12.

Accession Number: 20120927-5061.

Comments Due: 5 p.m. ET 10/18/12.

Docket Numbers: ER12-2590-000.

Applicants: DR Power, LLC.

Description: Amended Application Filing to be effective N/A.

Filed Date: 9/26/12.

Accession Number: 20120926-5148.

Comments Due: 5 p.m. ET 10/17/12.

Docket Numbers: ER12-2693-000.

Applicants: Entergy Operating Companies.

Description: Entergy Operating Companies submits Pro Forma Notice of Cancellation Service Schedule MSS-2 of the Entergy System Agreement.

Filed Date: 9/26/12.

Accession Number: 20120926-0201.

Comments Due: 5 p.m. ET 10/17/12.

Docket Numbers: ER12-2694-000.

Applicants: Northern States Power Company, A Minnesota Corporation, Northern States Power Company, A Wisconsin Corporation.

Description: 2012-09-26 to be effective 11/26/2012.

Filed Date: 9/26/12.

Accession Number: 20120926-5147.

Comments Due: 5 p.m. ET 10/17/12.

Docket Numbers: ER12-2695-000.

Applicants: Public Service Company of Colorado.

Description: 2012_09_26 PSCo MBR Filing to be effective 11/26/2012.

Filed Date: 9/26/12.

Accession Number: 20120926-5156.

Comments Due: 5 p.m. ET 10/17/12.

Docket Numbers: ER12-2696-000.

Applicants: Southwestern Public Service Company.

Description: 9-26-12_SPS MBR Filing to be effective 11/26/2012.

Filed Date: 9/26/12.

Accession Number: 20120926-5161.

Comments Due: 5 p.m. ET 10/17/12.

Docket Numbers: ER12-2697-000.

Applicants: ISO New England Inc., New England Power Pool Participants Committee.

Description: Various Revisions to FCM Rules to be effective 11/26/2012 under ER12-2697 Filing Type: 10.

Filed Date: 9/27/12.

Accession Number: 20120927-5098.

Comments Due: 5 p.m. ET 10/18/12.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2012.
Nathaniel J. Davis, Sr.,
Deputy Secretary.

[FR Doc. 2012-24602 Filed 10-4-12; 8:45 am]

BILLING CODE 6717-01-P